ENVIRONMENTAL PROTECTION AGENCY

[ER-FRL-6695-3]

Environmental Impact Statements; Notice of Availability

Responsible Agency: Office of Federal Activities, General Information (202) 564-7167 or http://www.epa.gov/compliance/nepa/.

Weekly receipt of Environmental Impact Statements.

Filed 01/14/2008 through 01/18/2008.

Pursuant to 40 CFR 1506.9.

EIS No. 20080021, Draft EIS, SFW, AK, Yukon Flats National Wildlife Refuge Project, Proposed Federal and Public Land Exchange, Right-of-Way Grant, Anchorage, AK, Comment Period Ends: 03/10/2008, Contact: Cyndie Wolfe 907-786-3463.

EIS No. 20080022, Final EIS, NOA, AK, Alaska Eskimo Whaling Commission for a Subsistence Hunt on Bowhead Whale for the Years 2008 through 2012 for Issuing Annual Quotas, Proposes to Authorize Subsistence Harvests of the Western Arctic Stock of Bowhead Whales, Bering, Chukchi and Beaufort Seas, AK, Wait Period Ends: 02/25/2008, Contact: Steve K. Davis 907-271-3523.

EIS No. 20080023, Final EIS, NOA, 00, Snapper Grouper Fishery Amendment 15A, Proposes Management Reference Points and Rebuilding Plans for Snowy Grouper, Black Sea Bass and Red Porgy, South Atlantic Region, Wait Period Ends: 02/25/2008, Contact: Dr. Roy E. Crabtree 727-824-5301.

EIS No. 20080024, Final EIS, AFS, ID, Frank Church—River of No Return Wilderness (FC-RONRW), Noxious Weed Treatments, Updated Information to Supplement the 1999 Final EIS for FC-RONRW, Implementation, Bitterroot, Boise, Nez Perce, Payette and Salmon-Challis National Forests, ID, Wait Period Ends: 02/25/2008, Contact: Howard Lyman 208-839-2211.

EIS No. 20080025, Draft EIS, FAA, TX, Northwest Corridor Light Rail Transit Line (LRT) to Irving/Dallas/Fort Worth International Airport, Construction, Dallas County, TX, Comment Period Ends: 03/10/2008, Contact: A.J. Ossi 202-366-1613.

EIS No. 20080026, Final EIS, NRC, MD, License Renewal of the National Bureau of Standards Reactor (NBSR), Renew the Operating License for an Additional 20 Years, National Institute of Standards and Technology (NIST), NUREG-1873, Montgomery County, MD, Wait Period Ends: 02/25/2008, Contact: Dennis Beissel 301-415-2145.

EIS No. 20080027, Final EIS, NRC, NY, GENERIC—James A. FitzPatrick Nuclear Power Plant, License Renewal of Nuclear Plant, Site Specific Supplement 31 to NUREG-1437, Town of Sriba, NY, Wait Period Ends: 02/25/2008, Contact: Jessie M. Muir 301-415-0491.

Dated: January 22, 2008.
Robert W. Hargrove,
Director, NEPA Compliance Division, Office of Federal Activities.

[FR Doc. E8-1314 Filed 1-24-08; 8:45 am]

BILLING CODE 6560-50-P